DEPARTMENT OF TRANSPORTATION

Pipeline and Hazardous Materials Safety Administration

Hazardous Materials: Actions on Special Permit Applications

AGENCY: Pipeline and Hazardous Materials Safety Administration (PHMSA), DOT.

ACTION: Notice of actions on special permit applications.

SUMMARY: In accordance with the procedures governing the application for, and the processing of, special permits from the Department of Transportation's Hazardous Material Regulations (49 CFR part 107, subpart B), notice is hereby given of the actions on special permits applications in (October to October 2014). The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on December 7, 2015.
Don Burger,
Chief, Special Permits and Approvals Branch.

S.P. No. | Applicant | Regulation(s) | Nature of special permit thereof
MODIFICATION SPECIAL PERMIT GRANTED
12549-M | TRISTAR Engineering Consulting Logistic SA 78311 Bucharest | 49 CFR 178.245-1(a) | To modify the special permit to an offer special permit and add “no new construction to this package is authorized” and company name change.
15146-M | ITW Tech Spray LLC Kennesaw, GA | 49 CFR 173.304(d) | To modify the special permit to authorize two additional non-specification inside metal containers similar to a DOT specification 2Q.
16394-M | Cellco Partnership, Basking Ridge, NJ | 49 CFR Subparts C through H of Part 172, 173.185(f) | To modify the special permit to authorize cargo vessel.
NEW SPECIAL PERMIT GRANTED
1652I-N | Sentry Equipment Corp., Oconomowoc, WI | 49 CFR 173.201, 173.301(f), 173.302a, 173.304a | To authorize the manufacture, mark, sale and use of stainless steel nin-DOT specification cylinders designed and manufactured in accordance with ASME Section VIII, Division I, and which conform in part to the specification DOT 3A. (modes 1, 2, 3, 4)
16485-N | Entegris, Inc., Billerica, MA | 49 CFR 173.302c(a), 173.302c(i)(5), 180.205(f), 180.205(g), IMDG Code 6.2.1.1.2 | To authorize the transportation in commerce of adsorbed gases in cylinders conforming to Specifications DOT 3AA and DOT 3E, (modes 1,2,3)
16478-N | Sentry Equipment Corp., Oconomowoc, WI | 49 CFR 173.201, 173.301(f), 173.302a, 173.404a | To authorize the manufacture, mark, sale and use of stainless steel non-DOT specification cylinders designed and manufactured in accordance with ASME Section VIII, Division 1, and which conform in part to specification DOT 3A. (modes 1, 2, 3, 4)
EMERGENCY SPECIAL PERMIT GRANTED
16572-N | Samsung Austin Semiconductor, LLC, Austin, TX | 49 CFR 173.158(b), 173.158(e), 173.158(f) | To authorize the transportation in commerce of nitric acid not exceeding 70% concentration in UN 1H1 drums. (mode 1)
16609-N | Hollywood Pyrotechnics, Inc., Eagan, MN | 49 CFR 173.56 | To authorize the transportation in commerce of fireworks without approved EX numbers. (mode 1)
16610-N | Kalitta Air, LLC, Ypsilanti, MI | 49 CFR 172.101 Table Column (9B), 172.204(c)(3), 172.27(b)(2), (3), 175.30(a)(1) | To authorize the one-time transportation in commerce of certain explosives and that are forbidden for transportation by cargo only aircraft. (mode 4)
16581-N | Int'l Repo-Depo, Inc., Waller, TX | 49 CFR 172.101 Column (9B), 172.204(c)(3), 175.78, 176.144 | To authorize the transportation in commerce of an explosive, which is otherwise forbidden by the regulations. (modes 3, 4)
16580-N | Int'l Repo-Depo, Inc., Waller, TX | 49 CFR 172.101 Column (9B), 172.204(c)(3) | To authorize the transportation in commerce of an explosive, which is otherwise forbidden by the regulations. (modes 3, 4)
DENIED
15610-M | Request by WavesinSolids LLC, State College, PA, November 3, 2015.
16320-N | Request by Digital Wave Corporation, Centennial, CO, November 23, 2015. To authorize the extension of the service life of certain DOT-CFFC cylinders which are subjected to certain requalification and operational controls.
16462-N | Request by Helimax Aviation, Inc., McClellan, CA, November 20, 2015. To authorize the transportation in commerce of certain hazardous materials by 14 CFR Part 133 Rotorcraft External Load Operations transporting hazardous materials attached to or suspended from an aircraft without being subject to certain hazard communication requirements, quantity limitations and certain loading and stowage requirements.
16484-N | Request by Rotarex North America, Mount Pleasant, PA, November 18, 2015. To authorize the manufacture, mark, sale and use of certain piston accumulators.
16526-N | Request by Helimax Aviation, Inc., McClellan Park, CA, November 20, 2015. To authorize the transportation in commerce in the U.S. only of certain hazardous materials by 14 CFR part 133 Rotorcraft External Load Operations transporting hazardous materials attached to or suspended from an aircraft and 14 CFR part 135 operations transporting hazardous materials on board an aircraft. Such transportation is in support of construction operations when the use of cranes or other lifting devices is impracticable or unavailable or when aircraft is the only means of transportation, without being subject to certain hazard communication requirements, quantity limitations, packaging and loading and storage requirements.
16564-N | Request by Carrier Corporation, Farmington, CT, November 20, 2015. To authorize the transportation in commerce of new (unused) refrigerating machines containing up to 6,500 pounds of a Group A1 refrigerant in each pressure vessel.

[FR Doc. 2015-32393 Filed 12-28-15; 8:45 am]

BILLING CODE 4909-60-M